SECURITIES AND EXCHANGE COMMISSION

[SEC File No. 270-556, OMB Control No. 3235-0619]

Submission for OMB Review; Comment Request; Extension: Rule 163

Upon Written Request Copies Available From: Securities and Exchange Commission, Office of FOIA Services, 100 F Street NE, Washington, DC 20549-2736

Notice is hereby given that, pursuant to the Paperwork Reduction Act of 1995 (44 U.S.C. 3501 et seq.), the Securities and Exchange Commission (“Commission”) has submitted to the Office of Management and Budget this request for extension of the previously approved collection of information discussed below.

Rule 163 (17 CFR 230.163) provides an exemption from section 5(c) (15 U.S.C. 77e(c)) under the Securities Act of 1933 (15 U.S.C. 77a et seq.) for certain communications by or on behalf of a well-known seasoned issuer. The information filed under Rule 163 is publicly available. We estimate that it takes approximately 0.375 burden hours per response to provide the information required under Rule 163 and is filed by approximately 12 issuers. We estimate that 25% of the 0.375 hours per response (0.09375 hours) is prepared by the issuer for an annual reporting burden of 1 hours (0.09375 hours per response × 12 responses).

An agency may not conduct or sponsor, and a person is not required to respond to, a collection of information unless it displays a currently valid control number.

The public may view background documentation for this information collection at the following website: www.reginfo.gov. Find this particular information collection by selecting “Currently under 30-day Review—Open for Public Comments” or by using the search function. Written comments and recommendations for the proposed information collection should be sent within 30 days of publication of this notice by January 10, 2024 to (i) www.reginfo.gov/public/do/PRAMain and (ii) David Bottom, Director/Chief Information Officer, Securities and Exchange Commission, c/o John Pezzullo, 100 F Street NE, Washington, DC 20549, or by sending an email to: PRA_Mailbox@sec.gov.

Dated: December 6, 2023.
Sherry R. Haywood,
Assistant Secretary.

[FR Doc. 2023-27147 Filed 12-8-23; 8:45 am]

BILLING CODE 8011-01-P